DEPARTMENT OF COMMERCE

National Oceanic and Atmospheric Administration

RIN 0648-XQ97

Endangered and Threatened Species; Take of Anadromous Fish

AGENCY: NOAA's National Marine Fisheries Service (NMFS), National Oceanic and Atmospheric Administration (NOAA), U. S. Department of Commerce.

ACTION: Issuance of an enhancement permit.

SUMMARY: Notice is hereby given that NMFS has issued Permit 14159 to NMFS Protected Resource Division (PRD) in Long Beach, CA.

ADDRESSES: The permit application, the permit, and related documents are available for review, by appointment, at the foregoing address at: Protected Resources Division, NMFS, 501 W. Ocean Blvd., Suite 4200, Long Beach, CA 90802 (ph: 562-980-4026, fax: 562-980-4027, e-mail at: Matthew.McGoogan@noaa.gov).. The permit application is also available for review online at the Authorizations and Permits for Protected Species website at https://apps.nmfs.noaa.gov.

FOR FURTHER INFORMATION CONTACT: Matt McGoogan at 562-980-4026, or e-mail: Matthew.McGoogan@noaa.gov.

SUPPLEMENTARY INFORMATION:

Authority

The issuance of permits, as required by the Endangered Species Act of 1973 (16 U.S.C. 1531-1543) (ESA), is based on a finding that such permits/modifications: (1) are applied for in good faith,; (2) would not operate to the disadvantage of the listed species which are the subject of the permits; and, (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Southern California Distinct Population Segment of steelhead (Oncorhynchus mykiss).

Permits Issued

A notice of the receipt of an application for Permit 14159 was published in the Federal Register on March 26, 2009 (74 FR 13192). Permit 14159 was issued to NMFS PRD on June 11, 2009. Permit 14159 authorizes NMFS PRD to conduct and oversee steelhead rescue activities for the endangered steelhead in coastal streams from the Santa Maria River south to the Mexican border. The purpose of this permit is for the enhancement of survival of endangered steelhead.

Criteria are defined in the permit application to provide an objective biological basis for determining whether a steelhead rescue is reasonable and necessary to enhance the population. These criteria include instream characteristics and conditions within the affected area, the cause for any observed or projected streamflow decreases or dewatering, the availability of suitable instream areas to safely harbor the rescued steelhead (i.e., relocation areas), and the abundance of steelhead within the affected area. The permit will be applicable only in the following situations: when a rapid response is crucial to steelhead survival, and when mortality of steelhead, if not rescued and relocated, is reasonably certain; and, when take authorization has not been granted, or is not expected, under Section 7 or Section 10 of the ESA. The permit application further defines criteria to increase the likelihood that the permit will not be misused.

NMFS' specific responsibilities under the rescue and relocation activities involves: (1) serving as the permit holder, principal investigator, and the primary contact, (2) designating and collaborating with the California Department of Fish and Game (CDFG) as a co-investigator, (3) determining the need for a steelhead rescue and relocation, and (4) providing written authorization for undertaking steelhead rescue and relocation. NMFS will retain discretion as principal investigator under the permit for determining, either individually or in collaboration with CDFG, whether a steelhead rescue and relocation are warranted using the established rescue criteria.

With regard to authorizing steelhead rescue and relocation, the permit grants NMFS the authority to legally allow its own qualified biologists or those of the CDFG to conduct and oversee operations to capture and relocate steelhead when an imminent threat to the survival of individuals exists and when the rescue criteria are met. Once the determination has been made that a steelhead rescue is needed, NMFS will coordinate the rescue and relocation operation with its own biologists and (or) those of the CDFG. NMFS and CDFG biologists listed on the permit may enlist help of other qualified individuals to participate in steelhead rescue operations. However, at least one NMFS or CDFG biologist listed on the permit must be present at all times during rescue operations (i.e., persons not listed on the permit cannot conduct fish rescue activities without a permitted NMFS or CDFG representative present).

Permit 14159 authorizes NMFS PRD an annual non-lethal take of up to 2000 juvenile steelhead and 100 adult steelhead. The permit also authorizes an annual collection and possession of up to 100 steelhead tissue samples as well as permission to recover up to 20 carcasses per year (if found). All samples and carcasses will be sent to NMFS science center for genetic research and possessing. No intentional lethal take has been authorized for this permit. The authorized unintentional lethal take (mortalities) that may occur during rescue activities is up to100 juvenile steelhead per year. Permit 14159 expires on December 31, 2019.

Dated: August 12, 2009.
Therese Conant,
Acting Division Chief, Endangered Species Division Chief, Office of Protected Resources, National Marine Fisheries Service.

[FR Doc. E9-19772 Filed 8-17-09; 8:45 am]

BILLING CODE 3510-22-S